DEPARTMENT OF LABOR

Employment and Training Administration

[TA-W-40,328]

Drexel Heritage Furnishings, Inc., Machine Shop, Morganton, NC; Notice of Revised Determination on Reconsideration

By letter of February 21, 2002, the petitioners, requested administrative reconsideration regarding the Department's Negative Determination Regarding Eligibility to Apply for Worker Adjustment Assistance, applicable to the workers of the subject firm.

The initial investigation resulted in a negative determination issued on January 22, 2002, based on the finding that imports did not contribute importantly to worker separations at the subject plant. The declines in employment at the subject plant were attributed to the outsourcing of products produced by the subject plant (saw blades, shaper knives and other cutting bits) used in the manufacturing of furniture. The denial notice was published in the Federal Register on February 5, 2002 (67 FR 5293).

The petitioners allege that the importing of furniture by an affiliate, Drexel Heritage Furnishings at Morganton, North Carolina, in which they were in direct support of drastically reduced the production of furniture and thus impacted the subject plant.

Information provided by the petitioner and information provided by the company show that the subject plant workers were in direct support, producing saw blades, shaper knives and other cutting bits for of an affiliated plant(s) (Drexel Heritage Furnishings Inc., Plant #3 and #5, Morganton, North Carolina). The workers of Drexel Heritage Furnishings Inc., Plants #3 and #5 produced residential furniture and were certified eligible to apply for Trade Adjustment Assistance on June 4, 2001 under TA-W-39,275. Therefore, since the workers of Drexel Heritage Furnishings, Inc., Machine Shop, North Carolina were in direct support (meaningful portion) of the residential furniture produced at the certified affiliated facilities, they meet the eligibility requirements of the Trade Act of 1974.

Conclusion

After careful review of the additional facts obtained on reconsideration, I conclude that increased imports of articles like or directly competitive with those produced at Drexel Heritage Furnishings, Inc., Morganton, North Carolina, in which the subject firm was in direct support, contributed importantly to the declines in the firm's sales or production and to the total or partial separation of workers at the Drexel Heritage Furnishings, Inc., Machine Shop, Morganton, North Carolina. In accordance with the provisions of the Act, I make the following certification:

All workers of Drexel Heritage Furnishings, Inc., Machine Shop, Morganton, North Carolina, who became totally or partially separated from employment on or after October 9, 2000 through two years from the date of this certification, are eligible to apply for adjustment assistance under section 223 of the Trade Act of 1974.

Signed in Washington, DC, this 6th day of May, 2002.
Edward A. Tomchick,
Director, Division of Trade Adjustment Assistance.

[FR Doc. 02-13543 Filed 5-29-02; 8:45 am]

BILLING CODE 4510-30-P